NATIONAL TRANSPORTATION SAFETY BOARD

Sunshine Act Meetings

TIME AND DATE: 9:30 a.m. EDT, Thursday June 6, 2024.

PLACE: NTSB Conference Center, 429 L'Enfant Plaza SW, Washington, DC 20594.

STATUS: The one item is open to the public.

MATTERS TO BE CONSIDERED:

71107 Aviation Investigative Report—Runway Incursion and Overflight, Southwest Airlines Flight 708, Boeing 737-700, N7827A, and Federal Express Flight 1432, Boeing 767-300, N297FE, Austin, Texas, February 4, 2023.

CONTACT PERSON FOR MORE INFORMATION: Candi Bing at (202) 590-8384 or by email at bingc@ntsb.gov.

Media Information Contact: Peter Knudson by email at peter.knudson@ntsb.gov (202) 314-6100.

Individuals requesting specific accommodations should contact Rochelle McCallister at (202) 314-6305 or by email at Rochelle.McCallister@ntsb.gov by Wednesday, May 30, 2024.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: Friday, May 10, 2024.
LaSean R. McCray,
Assistant Federal Register Liaison Officer.

[FR Doc. 2024-10619 Filed 5-10-24; 11:15 am]

BILLING CODE 7533-01-P